NUCLEAR REGULATORY COMMISSION

Updated and Consolidated Decommissioning Policy and Guidance of the Nuclear Regulatory Commission's Office of Nuclear Material Safety and Safeguards; Notice of Availability

AGENCY: Nuclear Regulatory Commission.

ACTION: Notice of availability and request for public comment.

SUMMARY: The Nuclear Regulatory Commission's (NRC) Office of Nuclear Material Safety and Safeguards (NMSS) is announcing the availability of a draft document “Consolidated NMSS Decommissioning Guidance: Decommissioning Process” (NUREG-1757, Vol. 1), for public comment. This document provides guidance for the planning and implementation of the termination of licenses issued through NMSS's licensing programs. The guidance is intended for NRC staff, licensees, and the public and is being developed in response to the NMSS performance goals, in the NRC's Strategic Plan, of: Making NRC activities and decisions more effective, efficient, and realistic; and reducing unnecessary regulatory burden on stakeholders. NRC is seeking public comment in order to receive feedback from the widest range of interested parties and to ensure that all information relevant to developing the document is available to the NRC staff. This draft document is being issued for comment only and is not intended for interim use. The NRC will review public comments received on the draft document. Suggested changes will be incorporated, where appropriate, in response to those comments, and a final document will be issued for use.

DATES: Comments on this draft document should be submitted by May 1, 2002. Comments received after that date will be considered to the extent practicable.

ADDRESSES: NUREG-1757 is available for inspection and copying for a fee at the Commission's Public Document Room, U.S. NRC's Headquarters Building, 11555 Rockville Pike (First Floor), Rockville, Maryland, and electronically from the ADAMS Electronic Reading Room on the NRC Web site at, http://www.nrc.gov/reading-rm/adams.html. NUREG-1757 is also available on the NRC web site at: http://www.nrc.gov/reading-rm/doc-collections/nuregs/staff or http://www.nrc.gov/materials/decommissioning/regs-guides-comm.html.

A free single copy of NUREG-1757 will be available to interested parties until the supply is exhausted. Such copies may be requested by writing to the U.S. Nuclear Regulatory Commission, Distribution Services, Washington, DC 20555-0001 or submitting e-mail to distribution@nrc.gov.

Members of the public are invited and encouraged to submit written comments to: Jack D. Parrott, Project Scientist, Office of Nuclear Material Safety and Safeguards, Mail Stop T-7F27, U.S. Nuclear Regulatory Commission, Washington, DC 20555-0001. Hand-deliver comments to: 11555 Rockville Pike, Rockville, MD, between 7:30 a.m. and 4:15 p.m., Federal workdays. Comments may also be sent electronically to decomcomments@nrc.gov. Copies of comments received may be examined at the ADAMS Electronic Reading Room on the NRC Web site, and the NRC Public Document Room, 11555 Rockville Pike, Room O-1F21, Rockville, MD 20852. The NRC Public Document Room is open from 7:45 a.m. to 4:15 p.m., Monday through Friday, except on Federal holidays.

FOR FURTHER INFORMATION CONTACT: Jack D. Parrott, Mail Stop T-7F27, U.S. Nuclear Regulatory Commission, Washington, DC 20555-0001. Telephone: (301) 415-6700; Internet: jdp1@nrc.gov.

SUPPLEMENTARY INFORMATION: As part of its redesign of the materials license program, the NRC's Office of Nuclear Material Safety and Safeguards (NMSS) is consolidating and updating numerous decommissioning guidance documents into a three-volume NUREG. The three volumes are as follows: (1) The General Materials Decommissioning Process; (2) Characterization, Survey, and Determination of Radiological Criteria; and (3) Financial Assurance, Recordkeeping, and Timeliness. Volume 1 of this NUREG series, entitled “Consolidated NMSS Decommissioning Guidance: Decommissioning Process,” is the first of these three volumes and is intended for use by licensees and NRC staff.

The approaches to license termination described in this NUREG will help to identify the information (subject matter and level of detail) needed to terminate a license by considering the specific circumstances of the wide range of radioactive materials users licensed by NRC. This guidance takes a risk-informed, performance-based approach to the information needed to support an application for the termination of a materials license. When published as a final report, this guidance should be used by licensees in preparing license amendment requests. NRC staff will use the final guidance in reviewing these amendment requests.

Draft NUREG-1757, Volume 1, “Consolidated NMSS Decommissioning Guidance: Decommissioning Process,” is the first of three volumes on decommissioning guidance. When final, it is intended for use by applicants, licensees, NRC license reviewers, and other NRC personnel. This document updates and builds upon the risk-informed approach in, and in whole or in part incorporates the NMSS Decommissioning Handbook (NUREG/BR-0241, “NMSS Handbook for Decommissioning Fuel Cycle and Materials Facilities,” March 1997). This draft NUREG also incorporates the parts of the “NMSS Decommissioning Standard Review Plan,” NUREG-1727, September 2000, that provide guidance for developing those parts of a decommissioning plan addressing general site description and current radiological conditions; decommissioning activities, management, and quality assurance; and modifications to decommissioning programs and procedures.

The policies and procedures discussed in draft NUREG-1757, Volume 1, will be used by NRC staff overseeing the decommissioning program at licensed fuel cycle, fuel storage, and materials sites to evaluate a licensee's decommissioning actions. This draft NUREG also describes, and make available to the public, methods acceptable to the NRC staff in implementing specific parts of the Commission's regulations, to delineate techniques and criteria used by the staff in evaluating decommissioning actions, and to provide guidance to licensees responsible for decommissioning NRC-licensed sites. This NUREG will not substitute for regulations, and compliance with it will not be required. Methods and solutions different from those in this NUREG will be acceptable, if they provide a basis for concluding that the decommissioning actions are in compliance with the Commission's regulations. Other NRC licensees, e.g. nuclear reactors or uranium recovery facilities, may find this information useful, but they are not the subject of this NUREG.

Further information on the overall decommissioning guidance consolidation and updating project can be found in the Federal Register Notice publishing the plan for the project (66 FR 21793).

Commentors are encouraged to submit their written comments to the addresses listed above. To ensure efficient and complete comment resolution, commentors are requested to reference the page number and the line number of the document to which the comment applies if possible.

Dated at Rockville, MD, this 23rd day of January, 2002.
For the Nuclear Regulatory Commission.
Larry W. Camper,
Chief, Decommissioning Branch, Division of Waste Management, Office of Nuclear Material Safety and Safeguards.

[FR Doc. 02-2376 Filed 1-30-02; 8:45 am]

BILLING CODE 7590-01-P